DEPARTMENT OF HEALTH AND HUMAN SERVICES

Centers for Disease Control and Prevention

[Docket No. CDC-2022-0014]

Notice of Intent To Prepare a Supplemental Environmental Impact Statement and Request for Comments

AGENCY: Centers for Disease Control and Prevention (CDC), Department of Health and Human Services (HHS).

ACTION: Notice and request for comment.

SUMMARY: Pursuant to the requirements of the National Environmental Policy Act of 1969 (NEPA) as implemented by the Council on Environmental Quality (CEQ) regulations (Title 40 CFR Section 1507.3) and the Department of Health and Human Services (HHS) General Administration Manual Part 30 “Environmental Procedures,” dated February 25, 2000, the Centers for Disease Control and Prevention (CDC) within HHS announces its intent to prepare a Supplemental Environmental Impact Statement (SEIS) to address changes proposed since completing the 2014 Final Environmental Impact Statement (EIS) for Centers for Disease Control and Prevention Roybal Campus 2025 Master Plan (2014 Final EIS) and issuing the Record of Decision dated November 7, 2014. The 2014 Final EIS analyzed the potential impacts associated with implementing a new long-range Master Plan to guide the future physical development of the Roybal Campus for the planning horizon of 2015 to 2025.

DATES: Written scoping comments will be accepted through February 28, 2022.

ADDRESSES: You may submit comments, identified by Docket Number CDC-2022-0014, by either of the following methods:

• Federal eRulemaking Portal: https://www.regulations.gov/. Follow the instructions for submitting comments.

• U.S. Mail: Thayra Riley, NEPA Coordinator Office of Safety, Security, and Asset Management (OSSAM), Centers for Disease Control and Prevention, 1600 Clifton Road NE, Mailstop H20-4, Atlanta, Georgia 30329.

Instructions: All submissions received must include the Agency name and Docket Number (CDC-2022-0014). CDC will post, without change, all relevant comments to https://www.regulations.gov, including any personal information provided. Do not submit comments by email. CDC does not accept comments by email. For access to the docket to read background documents or comments received, go to https://www.regulations.gov.

FOR FURTHER INFORMATION CONTACT: Thayra Riley, NEPA Coordinator, Office of Safety, Security, and Asset Management (OSSAM), Centers for Disease Control and Prevention, 1600 Clifton Road NE, Mailstop H20-4, Atlanta, Georgia 30329, email: cdc-roybalga-seis@cdc.gov, or telephone: 770-488-8170.

SUPPLEMENTARY INFORMATION: CDC intends to prepare an SEIS to analyze the potential impacts of proposed components that were not analyzed in the 2014 Final EIS. Proposed components that will be analyzed in the SEIS include the addition of a Hospital, Medical, and Infectious Waste Incinerator in a new laboratory and two emergency standby power diesel generators. The construction of a new laboratory was included in the 2014 Final EIS and will not be re-evaluated in the SEIS.

In accordance with NEPA as implemented by CEQ regulations (Title 40 CFR Section 1507.3) and HHS environmental procedures, CDC will prepare an SEIS to analyze the effects of proposed components that were not analyzed in the 2014 Final EIS. The potential impacts of construction and operation of these components on the natural and built environment will be evaluated.

Under the NEPA, federal agencies are required to evaluate the environmental effects of their proposed actions and a range of feasible alternatives to the proposed actions prior to making a final decision about what actions to take. The SEIS will incorporate the 2014 Final EIS by reference and will build upon that document to focus on specific resource areas that would have potential effects different from those analyzed in the 2014 Final EIS. Areas of anticipated concern include, but are not limited to, the following: Air quality, climate change and sustainability, environmental justice, and hazardous materials and hazardous waste.

Scoping Process

The scoping process is a requirement of NEPA and serves to identify the full range of environmental issues and inform the interested or affected parties of the proposed action. During the scoping process, CDC will actively seek input from the public, interested persons, organizations, and federal, state, and regional agencies to identify environmental concerns to be addressed in the SEIS. The purpose of this Notice is to inform interested or affected parties of CDC's plan to prepare the SEIS for component changes to a new laboratory that were not analyzed in the 2014 Final EIS, to provide information on the nature of the proposed actions, and to initiate the scoping process. NEPA does not require a public scoping meeting for an SEIS, and CDC will not conduct a public scoping meeting. CDC will conduct a virtual public meeting during the public comment period for the draft SEIS (a separate notice will be published for that comment period).

Dated: January 25, 2022.
Angela K. Oliver,
Executive Secretary, Centers for Disease Control and Prevention.

[FR Doc. 2022-01790 Filed 1-27-22; 8:45 am]

BILLING CODE 4163-18-P